DEPARTMENT OF COMMERCE

National Oceanic and Atmospheric Administration

RIN 0648-XH047

Western Pacific Fishery Management Council; Public Meetings

AGENCY: National Marine Fisheries Service (NMFS), National Oceanic and Atmospheric Administration (NOAA), Commerce.

ACTION: Notice of public meetings and a partially closed meeting.

SUMMARY: The Western Pacific Fishery Management Council (Council) will hold its 132nd Scientific and Statistical Committee (SSC) meeting, Fishery Data Collection and Research Committee (FDCRC), 178th Council meeting and associated meetings to take actions on fishery management issues in the Western Pacific Region. A portion of the Council's Executive, Budget and Legislative Standing Committee meeting will be closed to the public for a briefing on litigation by counsel.

DATES: The meetings will be held between June 18 and June 27, 2019. For specific times and agendas, see SUPPLEMENTARY INFORMATION.

ADDRESSES: The 132nd SSC, FDCRC, the Council's Executive, Budget and Legislative Standing Committee and Pelagic and International Standing Committee meetings will be held at the Council office, 1164 Bishop Street, Suite 1400, Honolulu, HI 96813, phone: (808) 522-8220. The 178th Council meeting will be held at the Laniakea YWCA, Fuller Hall, 1040 Richards Street, Honolulu HI 96813, phone: (808) 538-7061. The Fishers Forum will be held at the Ala Moana Hotel, 410 Atkinson Dr, Honolulu, HI 96814, phone: (808) 955-4811.

FOR FURTHER INFORMATION: Contact Kitty M. Simonds, Executive Director, Western Pacific Fishery Management Council; phone: (808) 522-8220.

SUPPLEMENTARY INFORMATION: The 132nd SSC meeting will be held between 8:30 a.m. and 5 p.m. on June 18-20, 2019. The FDCRC meeting will be held between 8:30 a.m. and 12 noon on June 24, 2019. The Executive, Budget and Legislative Standing Committee meeting will be held on June 24, 2019, between 9 a.m. and 11 a.m. The portion of the Executive, Budget and Legislative Standing Committee meeting from 9:30 a.m. to 10 a.m. will be closed to the public in accordance with Section 302(i)(3)(A)(ii) of the Magnuson-Stevens Fishery Conservation and Management Act (MSA) for a briefing on litigation by counsel. The Pelagic and International Standing Committee will be held on June 24, 2019, between 1 p.m. and 3 p.m. The 178th Council meeting will be held between 8:30 a.m. and 5 p.m. on June 25-27, 2019. On June 25, 2019, the Council will host a Fishers Forum between 6 p.m. and 9 p.m.

Agenda items noted as “Final Action Items” refer to actions that result in Council transmittal of a proposed fishery management plan, proposed plan amendment, or proposed regulations to the U.S. Secretary of Commerce, under Sections 304 or 305 of the MSA. In addition to the agenda items listed here, the Council and its advisory bodies will hear recommendations from Council advisors. An opportunity to submit public comment will be provided throughout the agendas. The order in which agenda items are addressed may change and will be announced in advance at the Council meeting. The meetings will run as late as necessary to complete scheduled business. Background documents will be available from, and written comments should be sent to, Kitty M. Simonds, Executive Director; Western Pacific Fishery Management Council, 1164 Bishop Street, Suite 1400, Honolulu, HI 96813, phone: (808) 522-8220 or fax: (808) 522-8226.

Agenda for 132nd SSC Meeting

Tuesday, June 18, 2019, 8:30 a.m. to 5 p.m.

1. Introductions

2. Approval of Draft Agenda and Assignment of Rapporteurs

3. Status of the 131st SSC Meeting Recommendations

4. Report from Pacific Islands Fisheries Science Center Director

A. Status of Council Research Priorities for the FY 2019 Annual Guidance Memo

5. Program Planning and Research

A. Shifting Distributions and Changing Productivity

B. Best Scientific Information Available Policy Directive

C. SSC Workgroup Report

1. Modern Fish Act Process Paper

2. Road Map for Effective Spatial Management

D. 2018 Annual Stock Assessment and Fishery Evaluation Report and Recommendations

1. Archipelagic Report Overview and Highlights

2. Pelagic Report Overview and Highlights

E. Public Comment

F. SSC Discussion and Recommendations

6. Island Fisheries

A. Setting the Acceptable Biological Catch (ABC) for the Main Hawaiian Islands (MHI) Kona Crab

1. Risk of Overfishing (P*) Working Group Report

2. Setting the ABC for the MHI Kona Crabs (Action Item)

3. Social Ecological Economic Management Uncertainty (SEEM*) Working Group Report

B. Status of Opening MHI Bottomfish Restricted Fishing Areas and Revisions to Reporting Requirements

C. Public Comment

D. SSC Discussion and Recommendations

7. Protected Species

A. Oceanic Whitetip Shark Recovery Planning Meeting

B. Evaluation of Potential Impacts of Blue-Dyed Bait on Target Species Catch Rates

C. Developing Tori Lines Minimum Standards for the Hawaii Longline Fishery

D. Status of Endangered Species Act (ESA) Consultations for the Hawaii Deep-Set Longline, American Samoa Longline, and Bottomfish Fisheries

E. Updates on ESA and Marine Mammal Protection Act (MMPA) Actions

F. Public Comment

G. SSC Discussion and Recommendations

Wednesday, June 19, 2019, 8:30 a.m. to 5 p.m.

8. SSC Working Group Session

A. Potential Spatial Management Approaches from the Hawaii Shallow-Set Longline Biological Opinion

B. Pacific Insular Fisheries—Monitoring and Assessment Planning Summit

9. Pelagic Fisheries

A. American Samoa Longline Fishery Report

B. Hawaii Longline Report Fishery Report

C. Territorial Bigeye Tuna Catch and/or Allocation Limits (Action Item)

D. Pacific Community (SPC) Tuna Tissue Bank

E. Pelagic Fisheries Research Plan Updates

1. Update on Ancillary Pelagic Indicators

2. Analysis on Oceanic Whitetip Shark Catch Per Unit Effort (CPUE)

F. Hawaii Longline Fisheries

1. Shallow-Set Longline Biological Opinion

2. Consideration of Additional Mitigation Measures Under the Shallow-Set Longline Biological Opinion Reasonable and Prudent Measures

3. Update on Electronic Reporting in the Hawaii Longline Fisheries

G. International Fisheries Meetings

1. 2019 Inter-American Tropical Tuna Commission (IATTC) Scientific Advisory Committee (SAC) Meeting

2. Outcomes of United Nations Boundaries Beyond National Jurisdiction (UN-BBNJ) Meeting

H. Public Comment

I. SSC Discussion and Recommendations

Thursday, June 20, 2019, 8:30 a.m. to 5 p.m.

10. Other Business

A. 133rd SSC Meetings Dates

11. Summary of SSC Recommendations to the Council

Agenda for the FDCRC Meeting

Monday, June 24, 2019, 8:30 a.m. to 12 noon

1. Welcome Remarks and Introductions

2. Update on Previous FDCRC Recommendations

3. Regulations for Mandatory License and Reporting

A. Guam

B. Commonwealth of Northern Mariana Islands (CNMI)

4. Data Collection Improvement Updates

A. American Samoa Department of Marine and Wildlife Resources (DMWR)

B. Guam Division of Aquatic and Wildlife Resources (DAWR)

C. CNMI Department of Land and Natural Resources (DLNR)—Division of Fish and Wildlife (DFW)

D. Hawaii DLNR—Division of Aquatic Resources (DAR)

E. Guam Bureau of Statistics and Plans (BSP)

F. Western Pacific Regional Fishery Management Council

G. National Marine Fisheries Service (NMFS)—Pacific Island Fisheries Science Center (PIFSC)

5. Pacific Insular Fisheries—Monitoring and Assessment Planning Summit (PIF-MAPS)

6. Interview of FDCRC members for the PIF-MAPS

7. FDCRC Strategic Plan and Marine Recreational Information Program (MRIP) Regional Implementation Plan Updates

8. Report on FDCRC-Technical Committee

9. Public Comment

10. Discussions and Recommendations

Agenda for the Executive, Budget and Legislative Standing Committee

Monday, June 24, 2019, 9 a.m. to 11 a.m.

1. Financial Reports

2. Administrative Reports

3. CLOSED SESSION (MSA § 302(i)(3)(A)(ii))—Status of Litigation (9:30 a.m.-10 a.m.)

4. Council Standard Operating Policies and Procedures (SOPP)

5. Report on May Council Coordination Committee Meeting

6. Council Family Changes

7. Council staff coordination workshop with NMFS

8. Sustainable Fisheries Fund Marine Conservation Fund

9. Meetings and Workshops

10. Other Issues

11. Public Comment

12. Discussion and Recommendations

Agenda for the Pelagic and International Standing Committee

Monday, June 24, 2019, 1 p.m. to 3 p.m.

1. Hawaii Shallow-Set Longline Fishery

A. Biological Opinion

B. Managing Loggerhead and Leatherback Sea Turtle Interactions in the Hawaii-based Shallow-Set Longline Fishery (Final Action)

C. Consideration of Additional Mitigation Measures under the Biological Opinion Reasonable and Prudent Measures

2. Update on Electronic Reporting in Hawaii Longline Fisheries

3. US Territory Longline Bigeye Catch/Allocation Limits (Initial Action)

4. International Fisheries

A. 2019 IATTC-SAC Meeting

B. Outcomes of UN-BBNJ Meeting

5. Advisory Group Report and Recommendations

A. Advisory Panel

B. Scientific & Statistical Committee

6. Public Comment

7. Standing Committee Recommendations

Agenda for 178th Council Meeting

Tuesday, June 25, 2019, 8:30 a.m. to 5 p.m.

1. Welcome and Introductions

2. Approval of the 178th Agenda

3. Approval of the 176th and 177th Meeting Minutes

4. Executive Director's Report

5. Agency Reports

A. National Marine Fisheries Service

1. Pacific Islands Regional Office

2. Pacific Islands Fisheries Science Center

B. NOAA Office of General Counsel, Pacific Islands Section

C. U.S. State Department

D. U.S. Fish and Wildlife Service

E. Enforcement

1. U.S. Coast Guard

a. Search and Rescue Presentation

2. NOAA Office of Law Enforcement

3. NOAA Office of General Counsel, Enforcement Section

F. Public Comment

G. Council Discussion and Action

6. Hawaii Archipelago & Pacific Remote Island Area

A. Moku Pepa

B. Legislative Report

C. Enforcement Issues

D. Main Hawaiian Islands Kona Crab Annual Catch Limits (ACL)

1. P* Working Group Report

2. SEEM* Working Group Report

3. Options for Specifying ACLs for the Main Hawaiian Islands Kona Crab (Final Action)

E. Report on MHI Bottomfish Restricted Fishing Areas

F. Education and Outreach Initiatives

G. Fishery Ecosystem Plan (FEP) Amendment to Precious Coral Essential Fish Habitat (EFH) (Final Action)

H. Advisory Group Report and Recommendations

1. Advisory Panel

2. Archipelagic Plan Team

3. Scientific & Statistical Committee

I. Public Comment

J. Council Discussion and Action

7. Protected Species

A. French Frigate Shoals Green Turtle Research Plans

B. Oceanic Whitetip Shark Recovery Planning Meeting

C. Developing Tori Line Minimum Standards for the Hawaii Longline Fishery

D. Status of ESA Consultations for the Hawaii Deep-Set Longline, American Samoa Longline, and Bottomfish Fisheries

E. Updates on ESA and MMPA Actions

F. Advisory Group Report and Recommendations

1. Advisory Panel

2. Protected Species Advisory Committee

3. Pelagic Plan Team

4. Scientific & Statistical Committee

G. Public Comment

H. Council Discussion and Action

Tuesday, June 25, 2019, 4 p.m.

8. Public Comment on Non-agenda Items

Tuesday, June 25, 2019, 6 p.m.-9 p.m.

Fishers Forum—Fishing in the Future: Emerging Technologies in Fisheries

Wednesday, June 26, 2019, 8:30 a.m.-5 p.m.

9. Program Planning and Research

A. National Legislative Report

B. Best Scientific Information Available Policy Directive

C. SSC Working Group Reports

1. Next Steps for Addressing Blue Ocean Marine Protected Areas (MPA)

2. Process for Addressing the Modern Fish Act

D. Summary of 2018 Annual SAFE Report Updates

1. Archipelagic Annual SAFE Report

2. Pelagic Annual SAFE Report

E. Regional, National, & International Outreach & Education

F. Advisory Group Report and Recommendations

1. Advisory Panel

2. Archipelagic Plan Team

3. Pelagic Plan Team

4. Protected Species Advisory Committee

5. Social Science Planning Committee

6. Fishery Data Collection and Research Committee

7. Scientific & Statistical Committee

G. Public Comment

H. Council Discussion and Action

10. Pelagic & International Fisheries

A. American Samoa Longline Annual Fishery Report

B. Hawaii Longline Annual Fishery Report

C. Hawaii Shallow-Set Longline Fishery

1. Biological Opinion

2. Managing Loggerhead and Leatherback Sea Turtle Interactions in the Hawaii-Based Shallow-Set Longline Fishery (Final Action)

3. Consideration of Additional Mitigation Measures Under the BiOp Reasonable and Prudent Measures

D. Update on Electronic Reporting in the Hawaii Longline Fishery

E. U.S. Territory Longline Bigeye Catch/Allocation Limits (Final Action)

F. Overview of the Global Fishing Watch

G. International Fisheries

1. IATTC

a. Report on IATTC 2019 Stock Assessments

b. IATTC SAC Meeting 2019

2. Outcomes of UN BBNJ Meeting

3. Report on 33rd Biannual Meeting of the Committee on Fisheries

H. Advisory Group Report and Recommendations

1. Advisory Panel

2. Protected Species Advisory Committee

3. Pelagic Plan Team Meeting

4. Scientific & Statistical Committee

I. Standing Committee Report and Recommendations

J. Public Comment

K. Council Discussion and Action

11. American Samoa Archipelago

A. Motu Lipoti

B. Fono Report

C. Enforcement Issues

D. Community Activities and Issues

1. Tuna Industry

2. Aunu'u Alia Development Project

3. Island Fisheries Inc. Fagatogo Fish Market

4. U.S. Coast Guard Awareness Training for American Samoa Longline Crews

5. 20th Steinlager I'a Lapo'a Game Fishing Tournament

6. American Samoa Government Development Projects

E. Education and Outreach Initiatives

1. U.S. Pacific Territories Capacity-Building Scholarship Program

F. Advisory Group Report and Recommendations

1. Advisory Panel

2. Scientific & Statistical Committee

G. Public Comment

H. Council Discussion and Action

Thursday, June 27, 2019, 8:30 a.m. to 5 p.m.

12. Mariana Archipelago

A. Guam

1. Isla Informe

2. Legislative Report

3. Enforcement Issues

4. Community Activities and Issues

5. Education and Outreach Initiatives

B. CNMI

1. Arongol Falú

2. Legislative Report

3. Enforcement Issues

4. Community Activities and Issues

5. Education and Outreach Initiatives

C. Advisory Group Reports and Recommendations

1. Mariana Archipelago FEP Advisory Panel

2. Scientific & Statistical Committee

D. Public Comment

E. Council Discussion and Action

13. Administrative Matters

A. Financial Reports

B. Administrative Reports

C. Council SOPP

D. Report of the May Council Coordination Committee Meeting

E. Council Family Changes

1. Advisory Panel

2. FDCRC-Technical Committee

F. Meetings and Workshops

G. Standing Committee Report and Recommendations

H. Public Comment

I. Council Discussion and Action

14. Other Business

Non-emergency issues not contained in this agenda may come before the Council for discussion and formal Council action during its 178th meeting. However, Council action on regulatory issues will be restricted to those issues specifically listed in this document and any regulatory issue arising after publication of this document that requires emergency action under section 305(c) of the Magnuson-Stevens Act, provided the public has been notified of the Council's intent to take action to address the emergency.

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: May 23, 2019.
Tracey L. Thompson,
Acting Deputy Director, Office of Sustainable Fisheries, National Marine Fisheries Service.

[FR Doc. 2019-11149 Filed 5-28-19; 8:45 am]

BILLING CODE 3510-22-P